DEPARTMENT OF HEALTH AND HUMAN SERVICES

National Institutes of Health

Office of the Secretary; Notice of Meeting

Pursuant to section 10(a) of the Federal Advisory Committee Act, as amended, notice is hereby given of a meeting of the Interagency Autism Coordinating Committee.

The meeting will be virtually held and is open to public viewing. The connection information and how to access the meeting will be available on the IACC website https://iacc.hhs.gov/meetings/iacc-meetings/2025/summary-of-advances/january14/. Advanced registration is recommended. Individuals wishing to participate virtually that need special assistance or other reasonable accommodations should submit a request to the Contact Person listed on this notice at least seven (7) business days prior to the meeting.

The purpose of the IACC meeting is to discuss the committee's nominations of articles for the 2024 IACC Summary of Advances in Autism Research report. The final report will summarize the top 20 advances in autism biomedical and services research, as selected by the IACC.

Name of Committee: Interagency Autism Coordinating Committee 2024 IACC Summary of Advances in Autism Research.

Date: January 14, 2025.

Time: 2:00 p.m. to 4:00 p.m.

Agenda: To discuss the committee's nominations of articles for the 2024 IACC Summary of Advances in Autism Research report.

Address: National Institutes of Health, Neuroscience Center, 6001 Executive Boulevard, Rockville, MD 20852.

Meeting Format: Virtual Meeting.

Cost: The meeting is free and open to the public.

Registration: A registration web link will be posted on the IACC website (www.iacc.hhs.gov) prior to the meeting. Pre-registration is recommended.

Contact Person: Ms. Rebecca Martin, Office of National Autism Coordination, National Institute of Mental Health, NIH, Phone: 301-435-0886.

Email: IACCPublicInquiries@mail.nih.gov.

Technical issues: If you experience any technical problems with the zoom webcast, please email IACCPublicInquiries@mail.nih.gov.

Disability Accommodations: All IACC Full Committee Meetings provide Closed Captioning through the Zoom platform. Individuals whose full participation in the meeting will require special accommodations (e.g., sign language or interpreting services, etc.) must submit a request to the Contact Person listed on the notice at least seven (7) business days prior to the meeting. Such requests should include a detailed description of the accommodation needed and a way for the IACC to contact the requester if more information is needed to fill the request. Special requests should be made at least seven (7) business days prior to the meeting; last-minute requests may be made but may not be possible to accommodate.

Meeting schedule subject to change.

More Information

Information about the IACC is available on the website: http://www.iacc.hhs.gov.

Any interested person may file written comments with the committee by forwarding the statement to the Contact Person listed on this notice. The statement should include the name, address, telephone number and when applicable, the business or professional affiliation of the interested person. In the interest of security, NIH has procedures at https://www.nih.gov/about-nih/visitor-information/campus-access-security for entrance into on-campus and off-campus facilities. All visitor vehicles, including taxicabs, hotel, and airport shuttles will be inspected before being allowed on campus. Visitors attending a meeting on campus or at an off-campus federal facility will be asked to show one form of identification (for example, a government-issued photo ID, driver's license, or passport) and to state the purpose of their visit.

Dated: December 16, 2024.
David W Freeman,
Supervisory Program Analyst, Office of Federal Advisory Committee Policy.

[FR Doc. 2024-30338 Filed 12-19-24; 8:45 am]

BILLING CODE 4140-01-P